DEPARTMENT OF AGRICULTURE

Animal and Plant Health Inspection Service

[Docket No. APHIS-2012-0103]

Privacy Act Systems of Records; Veterinary Services—Records of Accredited Veterinarians

AGENCY: Animal and Plant Health Inspection Service, USDA.

ACTION: Notice.

SUMMARY: The Animal and Plant Health Inspection Service proposed to alter an existing system of records in its inventory of record systems subject to the provisions of the Privacy Act of 1974, as amended. The system of records is Veterinary Services—Records of Accredited Veterinarians, USDA-APHIS-2. The system, as proposed, has been adopted; however, we received one comment, which is addressed in this notice.

FOR FURTHER INFORMATION CONTACT: Dr. Todd Behre, Program Coordinator, National Veterinary Accreditation Program, VS, APHIS, 4700 River Road Unit 200, Riverdale, MD 20737; (518) 281-2157.

SUPPLEMENTARY INFORMATION: The Privacy Act of 1974, as amended (5 U.S.C. 552a), requires agencies to publish in the Federal Register notice of new or revised systems of records. A system of records is a group of any records under the control of any agency, from which information is retrieved by the name of an individual or by some identifying number, symbol, or other identifying particular assigned to an individual.

On May 12, 2015, the Animal and Plant Health Inspection Service (APHIS) of the United States Department of Agriculture (USDA) published in the Federal Register (80 FR 27142-27145, APHIS-2012-0103) ¹ a proposal to alter a system of records, entitled Veterinary Services—Records of Accredited Veterinarians, which maintains information pertaining to veterinarians who are or have been accredited, or who have applied for accreditation, under the authority of section 10410 of the Animal Health Protection Act (7 U.S.C. 8309).

¹ To view the notice and the comment we received, go to http://www.regulations.gov/#!docketDetail;D=APHIS-2012-0103.

Accredited veterinarians are veterinarians authorized by APHIS to perform certain services to control and prevent the spread of animal diseases within the United States and internationally. Duties may encompass a wide range of activities relating to companion animals, livestock, poultry, horses, and other animals, including issuing certificates of veterinary inspection and health certificates for animals moving interstate or internationally; participating in animal disease surveillance and testing activities (including surveillance for emerging and foreign animal diseases); diagnosing diseases in animals; developing herd or flock health plans; and performing veterinary tasks during animal disease emergencies. Veterinarians who wish to perform work for APHIS must become nationally accredited by APHIS and then authorized by APHIS to perform accredited duties in one or more specific States or territories.

In order to ensure that a veterinarian's accreditation is in good standing and that he or she has received the appropriate level of training commensurate with his or her duties, APHIS maintains information regarding the veterinarian in the Veterinary Services—Records of Accredited Veterinarians system. APHIS maintains information about accredited veterinarians in the system in accordance with the APHIS Records Management Handbook. Data associated with accredited veterinarians (including those whose accreditation has lapsed or been revoked) will be destroyed when 45 years old. Data will also be destroyed when the accredited veterinarian is deceased. The system also contains information about veterinarians who are applicants for accredited status.

The system contains records related to the accreditation status of veterinarians. The records include name; date of birth; business name; home and business mailing addresses, telephone numbers, and email address; type of employment; State in which licensed or legally able to practice veterinary medicine; veterinary license number; veterinary medical college graduated and date of graduation; State(s) in which the veterinarian is authorized to perform accredited duties; species of animals the veterinarian treats; primary medical discipline; date of core orientation to accreditation and State where the veterinarian completed the orientation; the veterinarian's accreditation category; date of accreditation renewal; APHIS program certifications; APHIS-approved supplemental training completed; whether business contact information may be provided to members of the public; and information pertaining to any alleged or adjudicated violations of accreditation standards, including disposition of the case. The system also assigns a national accreditation number (NAN) to each registered accredited veterinarian.

We solicited comments on the notice for 30 days ending on June 22, 2015. We received one comment by that date from an organization that represents veterinarians. The commenter objected to the use of dates of birth in the system. The commenter stated that that the use of the date of birth was unnecessary and could present a vulnerability to personal identity security.

We disagree with the commenter that the use of the date of birth is unnecessary. To the contrary, the date of birth is a necessary identifier. In fact, there are three main reasons for the use of the date of birth to maintain records of accredited veterinarians.

As previously indicated, the system includes records for each accredited veterinarian, several of these, when listed together, are considered unique identifiers, such as the full name (first and last names and middle initial), date of birth, school and year of graduation, and the system-generated NAN. In some instances accredited veterinarians with the same full name also have the same year and school of graduation. In addition, some accredited veterinarians do not remember their NAN, which consists of a six-digit number that uses leading 0's. Some relay their NAN incorrectly by superimposing numbers, not using the leading 0's, etc. In these cases, the date of birth is used as the most accurate identifier.

The date of birth is also used when we find that an accredited veterinarian has a duplicate record in the database, which means there were two separate NANs created. The date of birth is the single unique identifier used to ensure that the two records do in fact belong to the same person, in which case, we combine the records under one NAN.

Lastly, we conduct classroom training sessions at major and local veterinary meetings. Attendance at training sessions is required for an accredited veterinarian to renew his or her accreditation, and each accredited veterinarian must sign in using his or her first name, last name, and date of birth as identifiers. We require the date of birth in this instance because it serves as a unique identifier if there should be an instance of two veterinarians signing in under the same first and last names, and as previously stated, we do not require the NAN because of problems arising when the veterinarian does not remember his or her NAN or records it incorrectly.

As to the possible vulnerability to personal identity security, as described in the system of records notice referred to above, the system is physically secured in a locked facility with access only by authorized APHIS personnel. Data is stored and backed up using protocols established by the Fort Collins, CO, data center. Access to the records in the system is limited to those individuals who have a need to know the information for the performance of their official duties and who have appropriate clearances or permissions. Data available to individual users is role-based, which further limits access. Users must have USDA eAuthentication credentials and sign in using authorized logins and passwords. Employees who save spreadsheets containing data from the system are responsible for protecting the data. Files on employees' computers are also protected by encryption software and login and password requirements. On an annual basis, all users are required to undergo information security training and to sign rules of behavior. Failure to comply with rules of behavior can result in corrective actions, including written reprimands, temporary suspension from duty, reassignment, demotion, or termination, suspension of system privileges, and possible criminal prosecution.

Based on our proposal to alter the system of records and the reasons given in this document, the system will remain as proposed.

Done in Washington, DC, this 27th day of July 2016.
Kevin Shea,
Administrator, Animal and Plant Health Inspection Service.

[FR Doc. 2016-18357 Filed 8-2-16; 8:45 am]

BILLING CODE 3410-34-P